DEPARTMENT OF HEALTH AND HUMAN SERVICES

National Institutes of Health

Office of the Director, National Institutes of Health; Notice of Meeting

Pursuant to section 10(a) of the Federal Advisory Committee Act, as amended (5 U.S.C. App.), notice is hereby given of a meeting of the Advisory Committee on Research on Women's Health.

The meeting will be open to the public, with attendance limited to space available. Individuals who plan to attend and need special assistance, such as sign language interpretation or other reasonable accommodations, should notify the Contact Person listed below in advance of the meeting.

Name of Committee: Advisory Committee on Research on Women's Health.

Date: April 10, 2014.

Time: 9:00 a.m. to 4:00 p.m.

Agenda: The Committee serves to advise and make recommendations to the Director, Office of Research on Women's Health (ORWH) on a broad range of topics including, the current scope of research on women's health and the influence of sex and gender on human health, efforts to understand the issues related to women in biomedical careers and their needs, and the current status of inclusion of women in clinical trials research.

Place: National Institutes of Health, Building 35, Room 620/630, 35 Convent Drive, Bethesda, MD 20892.

Contact Person: Susan E Maier, Ph.D., NIH/OD, 6707 Democracy Blvd., Room 400, Bethesda, MD 20852, 301-435-1573, maiers@mail.nih.gov.

Any interested person may file written comments for the public record by submitting their comments to the following email address ACRWHComments@sp10mail.nih.gov. Written comments for the public record must not exceed two single-spaced, typed pages, using a 12-point typeface and 1 inch margins; it is preferred that the document be prepared in the MS Word® format. Only testimony submitted to this Web site and received in advance of the meeting are part of the official meeting record.

Supplementary Information: A draft agenda for this meeting is posted at http://orwh.od.nih.gov/about/acrwh/index.asp. The meeting will be live-video streamed at http://videocast.nih.gov/.

Individuals who plan to attend the meeting in person should contact Faith Zeff at faith.zeff@nih.gov. Members of the media will also need to register. In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: March 13, 2015.
Carolyn Baum,
Program Analyst, Office of Federal Advisory Committee Policy.

[FR Doc. 2015-06267 Filed 3-18-15; 8:45 am]

BILLING CODE 4140-01-P